DEPARTMENT OF COMMERCE

National Oceanic and Atmospheric Administration

RIN 0648-XD459

Western Pacific Fishery Management Council; Public Meetings

AGENCY: National Marine Fisheries Service (NMFS), National Oceanic and Atmospheric Administration (NOAA), Commerce.

ACTION: Notice of public meeting.

SUMMARY: The Western Pacific Fishery Management Council (Council) announces that the second meeting of its Marine Planning and Climate Change Committee will be held on September 15, 2014, at the Council office in Honolulu, HI.

DATES: The Marine Planning and Climate Change Committee meeting will be held on September 15, 2014, between 1 p.m. and 3 p.m.

ADDRESSES: The Marine Planning and Climate Change Committee meeting will be held at the Council office, 1164 Bishop Street, Suite 1400, Honolulu, HI 96813; telephone: (808) 522-8220.

FOR FURTHER INFORMATION CONTACT: Kitty M. Simonds, Executive Director; telephone: (808) 522-8220.

SUPPLEMENTARY INFORMATION:

The agenda is as follows:

Schedule and Agenda for the Marine Planning and Climate Change Committee Meeting: 1 p.m.-3 p.m. Monday, September 15, 2014

1. Approval of Draft Agenda

2. Draft Marine Planning and Climate Change Committee Statement of Organization Practices and Procedures

3. Draft Marine Planning and Climate Change Policy

4. Prioritization of Council Actions on Marine Planning and Climate Change

5. Public Comment

6. Committee Discussion and Recommendations

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 25, 2014.
William D. Chappell,
Acting Deputy Director, Office of Sustainable Fisheries, National Marine Fisheries Service.

[FR Doc. 2014-20530 Filed 8-28-14; 8:45 am]

BILLING CODE 3510-22-P